DEPARTMENT OF ENERGY

Federal Energy Regulatory Commission

[Docket No. IC00-580-001, FERC Form 580]

Information Collection Submitted for Review and Request for Comments

April 25, 2001.

AGENCY: Federal Energy Regulatory Commission, DOE.

ACTION: Notice of submission of review by the Office of Management and Budget (OMB) and request for comments.

SUMMARY: The Federal Energy Regulatory Commission (Commission) has submitted the information collection listed in this notice to the Office of Management and Budget (OMB) for review under the provisions of section 3507 of the Paperwork Reduction Act of 1995 (Pub. L. 104-13). Any interested person may file comments on the collection of information directly with OMB and should address a copy of those comments to the Commission, as explained below. The Commission received comments from two entities in response to an earlier Federal Register notice of June 21, 2000 (65 FR 38529) and has replied to these comments in its submission to OMB.

DATES: Comments regarding this collection of information are best assured of having their full effect if received on or before May 31, 2001.

ADDRESSES: Address comments to the Office of Management and Budget, Office of Information and Regulatory Affairs, Attention: Federal Energy Regulatory Commission, Desk Officer, 725 17th Street NW., Washington, DC 20503. A copy of the comments should also be sent to the Federal Energy Regulatory Commission, Office of the Chief Information Officer, Attention: Mr. Michael Miller, 888 First Street, NE., Washington, DC 20426.

FOR FURTHER INFORMATION CONTACT: Michael Miller may be reached by telephone at (202) 208-1415, by fax at (202) 208-2425, and by e-mail to mike.miller@ferc.fed.us

SUPPLEMENTARY INFORMATION:

Description

The energy information collection submitted to OMB for review contains:

1. Collection of Information: FERC Form No. 580, “Interrogatory on Fuel and Energy Purchase Practices, Docket No. IN79-6”.

2. Sponsor: Federal Energy Regulatory Commission.

3. Control No.: 1902-0137.

The Commission is now requesting that OMB approve a three year extension of these mandatory information collection requirements.

4. Necessity of Collection of Information: Submission of the information is necessary to enable the Commission to carry out its responsibilities in implementing the statutory provisions of the Federal Power Act (FPA). The FPA was amended by the Public Utility Regulatory Policies Act (Pub. L. 95-617) to require the Commission to review “not less frequently than every two (2) years * * * of practices * * * to ensure efficient use of resources (including economical purchase and use of fuel and electric energy) * * *”. The information is used to:

(1) Review as mandated by statute, fuel purchase and cost recovery practices to insure efficient use of resources, including economical purchase and use of fuel and electric energy, under fuel adjustment clauses on file with the Commission; (2) evaluate fuel costs in individual rate filings; (3) to supplement periodic utility audits; and (4) to monitor changes and trends in the electric wholesale market. The information has also been used by the Energy Information Administration under a Congressional mandate to study various aspects of coal, oil, and gas transportation rates. Electric market participants and the public are using the information to assess the marketplace during its transition to a fully competitive regime.

5. Respondent Description: The respondent universe currently comprises approximately 119 respondents.

6. Estimated Burden: 3,808 total burden hours, 119 respondents, 59.5 responses annually (119 responses every two years), 64 hours per response (average).

7. Estimated Cost Burden to Respondent: 3,808 hours ÷ 2,080 hours per year × $117,041 = $214,275.

Statutory Authority: Sections 205(f) of the Federal Power Act, as amended by Section 208 of the Public Utility Regulatory Policies Act. (49 Stat. 851; 16 U.S.C. 824d).

Linwood A. Watson, Jr.,
Acting Secretary.

[FR Doc. 01-10735 Filed 4-30-01; 8:45 am]

BILLING CODE 6717-01-M